DEPARTMENT OF ENERGY

Federal Energy Regulatory Commission

[Docket No. IC17-1-000]

Commission Information Collection Activities; Comment Request for Generic Clearance for the Collection of Qualitative Feedback on Commission Service Delivery

AGENCY: Federal Energy Regulatory Commission, Department of Energy.

ACTION: Comment request.

SUMMARY: As part of a Federal Government-wide effort to streamline the process to seek feedback from the public on service delivery, the Federal Energy Regulatory Commission (the Commission or FERC) is coordinating the development of the proposed Generic Information Collection Request (ICR), FERC-153, Generic Clearance for the Collection of Qualitative Feedback on Commission Service Delivery, for approval under the Paperwork Reduction Act (PRA).¹ This notice announces that FERC intends to submit this collection to Office of Management and Budget (OMB) for approval and solicits comments on specific aspects for the proposed information collection. Previously, the Commission published a 60-day notice in the Federal Register (81 FR 70402, 10/12/2016) and received no comments.

¹ 44 U.S.C. 3501 et. seq.

The Commission also published a 30-day notice in the Federal Register (82 FR 835, 1/4/2017). This 30-day notice revises the burden estimate for the generic clearance. Details of the revised burden are illustrated in the “Estimate of Annual Burden” section of this notice.

DATES: Comments on the collection of information are due by May 25, 2017.

ADDRESSES: Comments filed with OMB, identified by the information collection number FERC-153, should be sent via email to the Office of Information and Regulatory Affairs: oira_submission@omb.gov. Attention: Federal Energy Regulatory Commission Desk Officer. The Desk Officer may also be reached via telephone at 202-395-0710.

A copy of the comments should also be sent to the Commission, in Docket No. IC17-1-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION:

Title: FERC-153, Generic Clearance for the Collection of Qualitative Feedback on Commission Service Delivery.

OMB Control No.: To be determined.

Type of Request: New generic information collection.

Abstract: The proposed information collection provides a means to garner qualitative customer and stakeholder feedback in an efficient, timely manner. By qualitative feedback, we mean data that provides useful insights on perceptions and opinions, but are not statistical surveys that yield quantitative results that can be generalized to the population of study. This feedback will provide insights into customer or stakeholder perceptions, experiences, and expectations, provide an early warning of issues with service, or focus attention on areas where communication, training or changes in operations might improve delivery of products or services. This collection will allow for ongoing, collaborative and actionable communications between FERC and its customers and stakeholders. It will also allow feedback to contribute directly to the improvement of program management.

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on the Commission's services will be unavailable.

The Commission will only submit a collection for approval under this generic clearance if it meets the following conditions:

• The collections are voluntary;

• The collections are low-burden for respondents (based on considerations of total burden hours, total number of respondents, or burden hours per respondent) and are low-cost for both the respondents and the Federal Government;

• The collections are non-controversial and do not raise issues of concern to other Federal agencies;

• The collection is targeted to the solicitation of opinions from respondents who have experience with the program or may have experience with the program in the near future;

• Personally identifiable information (PII) is collected only to the extent necessary and is not retained;

• Information gathered is intended to be used only internally for general service improvement and program management purposes and is not intended for release outside of the Commission (if released, the Commission must indicate the qualitative nature of the information);

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study.

As a general matter, this information collection will not result in any new system of records containing privacy information and will not ask questions of a sensitive nature, such as sexual behavior and attitudes, religious beliefs, and other matters that are commonly considered private.

This information collection is subject to the PRA. The Commission generally cannot conduct or sponsor a collection of information, and the public is generally not required to respond to an information collection, unless it is approved by the OMB under the PRA and displays a currently valid OMB Control Number. In addition, notwithstanding any other provisions of law, no person shall generally be subject to penalty for failing to comply with a collection of information which does not display a valid OMB Control Number. See 5 CFR 1320. OMB authorization for an information collection cannot be for more than three years without renewal.

Type of Respondents/Affected Public: Individuals and households; Businesses or other for-profit and not-for-profit organizations; State, Local, or Tribal government.

Estimate of Annual Burden: ² Based on additional information, the Commission is revising its estimates for the annual public reporting burden and cost for the information collection.³

² Burden is defined as the total time, effort, or financial resources expended by persons to generate, maintain, retain, or disclose or provide information to or for a Federal agency. For further explanation of what is included in the information collection burden, refer to 5 Code of Federal Regulations 1320.3.

³ The annual estimates are being revised. The number of respondents changed from 15,000 to 27,000. The total number of responses changed from 15,000 to 27,000. The average burden minutes per response changed from 6 minutes to 10 minutes. The total burden hours changed from 1,500 hours to 4,500 hours.

Estimated Annual Burden for Generic Clearance
| Number of respondents | Number of responses per respondent | Total number of responses | Average burden minutes per response | Total burden hours
| (1) | (2) | (1) * (2) = (3) | (4) | (3) * (4) = (5)
Generic Clearance | 27,000 | 1 | 27,000 | 10 | ⁴4,500
⁴ 4,500 hours = 270,000 minutes.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 19, 2017.
Kimberly D. Bose,
Secretary.

[FR Doc. 2017-08333 Filed 4-24-17; 8:45 am]

BILLING CODE 6717-01-P